DEPARTMENT OF THE INTERIOR

National Park Service

Notice of Meeting

AGENCY: National Park Service, Interior.

ACTION: Announcement of Subsistence Resource Commission meeting.

SUMMARY: The Superintendent of Denali National Park and Preserve and the Chairperson of the Denali Subsistence Resource Commission announce a forthcoming meeting of the Subsistence Resource Commission for Denali National Park and Preserve. The following agenda items will be discussed:

(1) Call to order by Chair.

(2) SRC roll call and Confirmation of Quorum.

(3) Welcome and introductions.

(4) Approval of minutes of last meeting.

(5) Additions and corrections to agenda.

(6) Business:

a. Denali Subsistence Brochure.

b. Toklat-Sanctuary Wolf Issues.

c. Denali Back Country Management Plan.

d. Denali Subsistence Management Plan.

(7) Public and other agency comments.

(8) Set time and place of next SRC meeting.

(9) Adjournment.

DATES: The meeting will begin at 9 a.m. on Friday, August 18, 2000 and conclude at approximately 5 p.m.

LOCATION: Cantwell Community Center, Cantwell, Alaska.

FOR FURTHER INFORMATION CONTACT: Hollis Twitchell, Subsistence Coordinator, P.O. Box 9, Denali Park, Alaska 99755. Phone (907) 683-9544 or (907) 456-0595.

SUPPLEMENTARY INFORMATION: The Subsistence Resource Commissions are authorized under Title VIII, Section 808, of the Alaska National Interest Lands Conservation Act, Pub. L. 96-487, and operates in accordance with the provisions of the Federal Advisory Committees Act.

Paul Anderson,
Deputy Regional Director.

[FR Doc. 00-19954 Filed 8-7-00; 8:45 am]

BILLING CODE 4310-70-P